DEPARTMENT OF EDUCATION

Extension of the Application Deadline Dates; Applications for New Awards; School-Based Mental Health Services Grant Program and Mental Health Service Professional Demonstration Grant Program

AGENCY: Office of Elementary and Secondary Education, Department of Education.

ACTION: Notice.

SUMMARY: On March 1, 2024, we published in the Federal Register a notice inviting applications (NIA) for the fiscal year (FY) 2024 School-Based Mental Health Services (SBMH) Grant Program competition, Assistance Listing Number (ALN) 84.184H, and the Mental Health Service Professional (MHSP) Demonstration Grant Program competition, ALN 84.184X. The NIA established a deadline date for the transmittal of applications of April 30, 2024 for the SBMH program and May 15, 2024 for the MHSP program. This notice extends the deadline date for transmittal of applications for all eligible applicants for both programs until May 31, 2024 and extends the date of intergovernmental review until July 30, 2024.

DATES:

Deadline for Transmittal of Applications: May 31, 2024.

Deadline for Intergovernmental Review: July 30, 2024.

FOR FURTHER INFORMATION CONTACT: For the SBMH program, contact Amy Banks, U.S. Department of Education, 400 Maryland Avenue SW, 4th Floor, Washington, DC 20202-6450. Telephone: (202) 453-6704. Email: OESE.School.Mental.Health@ed.gov.

For the MHSP program, contact Nicole White, U.S. Department of Education, 400 Maryland Avenue SW, 4th Floor, Washington, DC 20202-6450. Telephone: (202) 453-6729. Email: Mental.Health@ed.gov.

If you are deaf, hard of hearing, or have a speech disability and wish to access telecommunications relay services, please dial 7-1-1.

SUPPLEMENTARY INFORMATION: On March 1, 2024, we published the NIAs for the FY 2024 SBMH and MHSP competitions in the Federal Register (89 FR 15173 and 89 FR 15180, respectively). The NIAs established a deadline of April 30, 2024, for eligible applicants to submit applications for the SBMH competition and a deadline of May 15, 2024, for eligible applicants to submit applications for the MHSP competition. We are extending the deadline for transmittal of applications for all eligible applicants under both competitions until May 31, 2024. We are extending the deadline in order to allow all applicants more time to prepare and submit their applications. Applicants that have already submitted applications under these competitions may resubmit applications, but are not required to do so. If a new application is not submitted, the Department will use the application that was submitted by the original deadline. If a new application is submitted, the Department will consider the application that is last submitted and timely received.

Note: All information in the NIAs, including eligibility criteria, remains the same, except for the deadlines for the transmittal of applications and the deadlines for intergovernmental review.

Information about SBMH and MHSP is available on the Department's website at https://oese.ed.gov/offices/office-of-formula-grants/safe-supportive-schools/school-based-mental-health-services-grant-program/ and https://oese.ed.gov/offices/office-of-formula-grants/safe-supportive-schools/mental-health-service-professional-demonstration-grant-program/.

Program Authority: 20 U.S.C. 7281.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Adam Schott,
Deputy Assistant Secretary for Policy and Programs, Delegated the Authority to Perform the Functions and Duties of the Assistant Secretary, Office Elementary and Secondary Education.

[FR Doc. 2024-09304 Filed 4-29-24; 11:15 am]

BILLING CODE 4000-01-P